DEPARTMENT OF HOMELAND SECURITY

Coast Guard

[Docket No. USCG-2010-0316]

National Boating Safety Advisory Council; Vacancies

AGENCY: Coast Guard, DHS.

ACTION: Request for applications.

SUMMARY: The Coast Guard seeks applications for membership on the National Boating Safety Advisory Council. This Council advises the Coast Guard on recreational boating safety regulations and other major boating safety matters.

DATES: Completed applications should reach the Coast Guard on or before May 23, 2016.

ADDRESSES: Applicants should send a cover letter expressing interest in an appointment to the National Boating Safety Advisory Council and specifying which membership category the applicant is applying under, along with a resume detailing the applicant's boating experience via one of the following methods:

• By email: jeffrey.a.ludwig@uscg.mil (preferred).

• By mail: Commandant (CG-BSX-2)/NBSAC, Attn: Mr. Jeff Ludwig, U.S. Coast Guard, 2703 Martin Luther King Ave. SE., Stop 7581, Washington, DC 20593-7581.

FOR FURTHER INFORMATION CONTACT: Mr. Jeff Ludwig, Alternate Designated Federal Officer of the National Boating Safety Advisory Council; telephone 202-372-1061 or email at jeffrey.a.ludwig@uscg.mil.

SUPPLEMENTARY INFORMATION: The National Boating Safety Advisory Council is a Federal advisory committee which operates under the provisions of Federal Advisory Committee Act, (Title 5 U.S.C., Appendix). It was established under the authority of 46 United States Code 13110 and advises the Coast Guard on boating safety regulations and other major boating safety matters. The Council usually meets at least twice each year at a location selected by the Coast Guard. It may also meet for extraordinary purposes. Subcommittees or working groups may also meet to consider specific issues.

Each member serves for a term of three years. Members may be considered to serve a maximum of two consecutive full terms. All members serve at their own expense and receive no salary, or other compensation from the Federal Government. The exception to this policy is when attending National Boating Safety Advisory Council meetings; members may be reimbursed for travel expenses and provided per diem in accordance with Federal Travel Regulations.

We will consider applications for the following seven positions that will be vacant on December 31, 2016:

• Two representatives of State officials responsible for State boating safety programs;

• Three representatives of recreational boat and associated equipment manufacturers; and

• Two representatives of national recreational boating organizations or the general public.

Applications will also be considered for one vacancy in the national recreational boating organizations or the general public membership category that was caused by the inability of a person appointed in 2016 to accept their appointment. This position will serve a term that expires on December 31, 2018.

If you are selected as a member from the general public, you will be appointed and serve as a Special Government Employee as defined in section 202(a) of Title 18, United States Code. As a candidate for appointment as a Special Government Employee, applicants are required to complete a Confidential Financial Disclosure Report (OGE Form 450). Coast Guard may not release the reports or the information in them to the public except under an order issued by a Federal court or as otherwise provided under the Privacy Act (5 U.S.C. 552a). Only the Designated Coast Guard Ethics Official or his or her designee may release a Confidential Financial Disclosure Report. Applicants can obtain this form by going to the Web site of the Office of Government Ethics (www.oge.gov) or by contacting the individual listed above in FOR FURTHER INFORMATION CONTACT. Applications for a member drawn from the general public that are not accompanied by a completed OGE Form 450 will not be considered.

Applicants are considered for membership on the basis of their particular expertise, knowledge, and experience in recreational boating safety. The vacancies announced in this notice apply to membership positions that become vacant on January 1, 2017. Individuals who have applied for National Boating Safety Advisory Council membership in any prior years are asked to re-submit a complete application if the individual wishes to apply for any of the vacancies announced in this notice.

To be eligible, applicants should have experience in one of the categories listed above.

Registered lobbyists are not eligible to serve on federal advisory committees in an individual capacity. See “Revised Guidance on Appointment of Lobbyists to Federal Advisory Committees, Boards and Commissions” (79 FR 47482, August 13, 2014). Registered lobbyists are lobbyists required to comply with provisions contained in The Lobbying Disclosure Act of 1995 (2 U.S.C. 1605; Pub. L. 104-65 as amended by Title II of Pub. L. 110-81).

The Department of Homeland Security does not discriminate in selection of Council members on the basis of race, color, religion, sex, national origin, political affiliation, sexual orientation, gender identity, marital status, disability and genetic information, age, membership in an employee organization, or other non-merit factor. The Department of Homeland Security strives to achieve a widely diverse candidate pool for all of its recruitment actions.

If you are interested in applying to become a member of the Council, send your cover letter and resume to Mr. Jeff Ludwig, Alternate Designated Federal Officer of National Boating Safety Advisory Council via one of the transmittal methods in the ADDRESSES section by the deadline in the DATES section of this notice.

Dated: March 10, 2016.
Verne B. Gifford,
Captain, U.S. Coast Guard, Director of Inspections and Compliance.

[FR Doc. 2016-06427 Filed 3-21-16; 8:45 am]

BILLING CODE 9110-04-P